DEPARTMENT OF THE INTERIOR

Fish and Wildlife Service

[FWS-R8-R-2011-N276; FGRS12610800000V5-123-FF08RSFC00]

Sears Point Wetland and Watershed Restoration Project, Sonoma County, CA; Final Environmental Impact Report and Environmental Impact Statement

AGENCY: Fish and Wildlife Service, Interior.

ACTION: Notice of availability.

SUMMARY: We, the U.S. Fish and Wildlife Service (Service) and the California Department of Fish and Game (CDFG), in cooperation with the Sonoma Land Trust (SLT), announce that a final environmental impact report and environmental impact statement (EIR/EIS) for the Sears Point Wetland and Watershed Restoration Project is now available. The final EIR/EIS, which we prepared and now announce in accordance with the National Environmental Policy Act of 1969 (NEPA), describes the restoration of approximately 2,300 acres (ac) of former farmland located in Sonoma County, California, near the San Pablo Bay. The final EIR/EIS responds to all comments we received on the draft document. The restoration project, which would be implemented by the SLT, would restore natural estuarine ecosystems on diked baylands, while providing public access and recreational and educational opportunities compatible with ecological and cultural resources protection. The U.S. Army Corps of Engineers, San Francisco District, and the National Marine Fisheries Service of the National Oceanic and Atmospheric Administration are cooperating agencies on the final EIR/EIS.

ADDRESSES: The Final EIR/EIS is available at:

• Refuge Headquarters Office, San Pablo Bay National Wildlife Refuge, 2100 Highway 37, Petaluma, CA 94954; (707) 769-4200.

• San Francisco Bay National Wildlife Refuge Complex, 9500 Thornton Avenue, Newark, CA 94560; (510) 792-0222.

• John F. Kennedy Public Library, 505 Santa Clara, Vallejo, CA 94590.

• Internet: www.sonomalandtrust.org.

FOR FURTHER INFORMATION CONTACT: Don Brubaker, Refuge Manager, San Pablo Bay NWR, (707) 769-4200 x100 (phone); don_brubaker@fws.gov. (email), or Julian Meisler, Baylands Program Manager, Sonoma Land Trust, at (707) 526-6930 x109 (phone); julian@sonomalandtrust.org (email).

SUPPLEMENTARY INFORMATION:

Location

The project site is located at Sears Point, near the intersection of Lakeville-Reclamation Road and State Route 37 (SR 37) in southern Sonoma County, California. The site is also traversed from east to west by a rail line owned by the Sonoma-Marin Area Rail Transit (SMART) District.

The project site is a total of 2,327 ac owned by the Sonoma Land Trust (SLT) and is comprised of two large properties, the North Point Joint Venture (NPJV) parcel and the Dickson Ranch parcel, which are situated on the edge of San Pablo Bay between the mouth of the Petaluma River and Tolay Creek. The 1,679-ac NPJV parcel extends both north and south of SR 37. The parcel is bounded on the north by the Infineon Raceway property, on the east by Cougar Mountain (north of SR 37) and Paradise Vineyards (south of SR 37), on the south by the SMART rail line, and on the west by Lakeville-Reclamation Road. The 648-ac Dickson Ranch parcel is located entirely south of Highway 37, and is bounded on the south by San Pablo Bay and on the west by Tolay Creek and the outboard levee as it veers bayward from the SMART rail line. The entire Dickson Ranch parcel and 858 ac of the NPJV parcel are located within the approved acquisition boundary of the Service's San Pablo Bay National Wildlife Refuge. The SLT is transferring approximately 500-ac of the land bounded by Highway 37 and the SMART rail line to the Service, and the remainder of the land to CDFG.

Alternatives

We identified and analyzed a total of eight alternatives. The alternatives were analyzed based on a set of criteria, including (1) ability to meet the project purpose and need; (2) technical, logistical, and financial feasibility; and (3) ability to avoid or substantially reduce one or more significant impacts. We removed five of these alternatives from further consideration because they did not meet the purpose and need, were not feasible, or did not provide substantial variation in environmental impacts. The lead agencies carried forward three possible alternatives for environmental analysis: The No-Action Alternative, the Partial-Tidal (Preferred) Restoration Alternative, and the Full-Tidal Restoration Alternative.

No-Action Alternative

Under the No-Action Alternative, there would be no wetland restoration or enhancement, no new trails, and no new habitat creation, with the exception of the California red-legged frog enhancement, which would likely proceed as a separate enhancement project. The Sonoma Land Trust (SLT) would maintain ownership of the property north of Highway 37, and would still move forward with the transfer of title of the Sears Point properties south of Highway 37 to the Federal and State agencies. SLT will honor existing agricultural and commercial leases on the property through May 2012.

Partial-Tidal (Proposed) Restoration Alternative

The Partial-Tidal Restoration Alternative would restore 955 acres of tidal marsh; preserve and enhance a 106-acre area of non-tidal seasonal wetland while maintaining agriculture between the SMART line and Highway 37; provide public recreation access south and possibly north of Highway 37; and enhance 15.5 acres of additional breeding habitat for the California red-legged frog, including 0.86 acres of excavation in the floodplain near the northern project boundary.

Full-Tidal Restoration Alternative

The Full-Tidal Restoration Alternative would restore 1,352 acres of tidal marsh; provide public recreation access south and possibly north of Highway 37; and enhance 15.5 acres of additional breeding habitat, including 0.86 acres of excavation in the floodplain, for the California red-legged frog near the northern project boundary.

NEPA Compliance

The entire Dickson Ranch parcel and 858 acres of the NPJV parcel are located within the approved acquisition boundary of the San Pablo Bay NWR. Federally owned lands within the Refuge boundary are adjacent to these properties. In order to implement the action alternatives described above, some activity (levee breaching and habitat restoration) within the San Pablo Bay NWR is necessary. We will use the EIR/EIS to determine whether to authorize activities within the San Pablo Bay NWR in order to accomplish project goals.

The EIR/EIS discusses the direct, indirect, and cumulative impacts of the alternatives on biological resources, cultural resources, land use, air quality, water quality, water resources, and other environmental resources. It also identifies appropriate mitigation measures for adverse environmental effects.

Public Review

We conducted public review of the EIR/EIS in accordance with the requirements of NEPA, as amended (42 U.S.C. 4321 et seq.), its implementing regulations (40 CFR parts 1500-1508), other applicable regulations, and our procedures for compliance with those regulations. The formal public comment period for the draft EIR/EIS opened on August 28, 2009, and closed on October 13, 2009. We announced the availability of the draft document by several methods, including press releases and public notice, including a notice in the Federal Register (74 FR 44379, August 28, 2009). While we received a number of comments on the draft EIR/EIS, none of the comments received from interested individuals, groups, or agencies required us or CDFG to add new alternatives or to significantly alter existing alternatives.

The EIR/EIS meets the requirements of both NEPA and the California Environmental Quality Act (CEQA). The California Department of Fish and Game is the CEQA lead agency. The final EIR/EIS contains our responses to all comments received on the draft document. Following the release of the final EIR/EIS, we will prepare a Record of Decision not sooner than 30 days after the Environmental Protection Agency has published its notice of filing of the document in the Federal Register. We anticipate that we will issue a Record of Decision in the spring of 2012.

We provide this notice under regulations implementing NEPA (40 CFR 1506.6).

Alexandra Pitts,
Acting, Regional Director, Pacific Southwest Region.

[FR Doc. 2012-9577 Filed 4-19-12; 8:45 am]

BILLING CODE 4310-55-P